SURFACE TRANSPORTATION BOARD

[Docket No. FD 36055]

Southeastern Land, LLC—Acquisition and Operation Exemption—Vaughan Railroad Company

Southeastern Land, LLC (Southeastern), a noncarrier, has filed a verified notice of exemption under 49 CFR 1150.31 to acquire from Vaughan Railroad Company (Vaughan), and to operate, approximately 14 miles of rail line between milepost 7.5 near Belva and milepost 22.0 on Twentymile Creek, northeast of Vaughan, in Nicholas and Fayette Counties, W. Va. (the Line).

In the verified notice, Southeastern states that Southeastern, Vaughan, and Vaughan's affiliates have entered into a Purchase and Sale Agreement (Agreement) under which Southeastern will purchase the 14-mile rail line in addition to certain other assets. The Line is currently not in use and has no active customers. After consummation of the transaction, Southeastern intends to provide service to future customers on the Line or contract with a third party to provide the service. According to Southeastern, the Line is subject to a trackage rights agreement with CSX Transportation, Inc.,¹ and a separate trackage rights agreement with Norfolk Southern Railway Co.²

¹ See CSX Transp.—Trackage Rights Exemption—Vaughan R.R., FD 32695 (ICC served May 30, 1995).

² See Consolidated Rail Corp.—Trackage Rights Exemption—Vaughan R.R., FD 32670 (ICC served May 3, 1995).

According to Southeastern, the Agreement between Southeastern and Vaughan does not contain any provision that prohibits Southeastern from interchanging traffic or limits Southeastern's ability to interchange traffic with a third party.

Southeastern certifies that its projected revenues upon consummation of the proposed transaction will not result in Southeastern's becoming a Class I or Class II rail carrier and states that its projected annual revenues will not exceed $5 million.

This transaction may be consummated on or after September 7, 2016, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than August 31, 2016 (at least seven days before the exemption becomes effective).

An original and 10 copies of all pleadings, referring to Docket No. FD 36055 must be filed with the Surface Transportation Board, 395 E Street SW., Washington, DC 20423-0001. In addition, a copy of each pleading must be served on Rebecca S. Gohmann, General Counsel of Southeastern Land, LLC, 2408 Sir Barton Way, Suite 325, Lexington, KY 40509.

According to Southeastern, this action is categorically excluded from environmental review under 49 CFR 1105.6(c).

Board decisions and notices are available on our Web site at WWW.STB.DOT.GOV.

Decided: August 18, 2016.
By the Board, Rachel D. Campbell, Director, Office of Proceedings.
Kenyatta Clay,
Clearance Clerk.

[FR Doc. 2016-20377 Filed 8-23-16; 8:45 am]

BILLING CODE 4915-01-P